DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

TIME AND DATE: November 15, 2018 10:00 a.m.

PLACE: Room 2C, 888 First Street NE, Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1049th Meeting—Open Meeting
[November 15, 2018, 10:00 a.m.]
Item No. | Docket No. | Company
Administrative
A-1 | AD19-1-000 | Agency Administrative Matters.
A-2 | AD19-2-000 | Customer Matters, Reliability, Security and Market Operations.
A-3 | AD07-13-012 | FY2018 Report on Enforcement.
Electric
E-1 | RM19-5-000 | Public Utility Transmission Rate Changes to Address Accumulated Deferred Income Taxes.
E-2 | RM19-4-000 | Implementation of Amended Section 203(a)(1)(B) of the Federal Power Act.
E-3 | RM18-8-000 | Geomagnetic Disturbance Reliability Standard.
| RM15-11-003 | Reliability Standard for Transmission System Planned Performance for Geomagnetic Disturbance Events.
E-4 | PL19-2-000 | Accounting and Ratemaking Treatment of Accumulated Deferred Income Taxes and Treatment Following the Sale or Retirement of an Asset.
E-5 | EL18-62-000 | AEP Appalachian Transmission Company, Inc.; AEP Indiana Michigan Transmission Company, Inc.; AEP Kentucky Transmission Company, Inc.; AEP Ohio Transmission Company, Inc.; AEP West Virginia Transmission Company, Inc.
| ER18-1546-000 | PJM Interconnection, L.L.C.; AEP Appalachian Transmission Company, Inc.; AEP Indiana Michigan Transmission Company, Inc.; AEP Kentucky Transmission Company, Inc.; AEP Ohio Transmission Company, Inc.; AEP West Virginia Transmission Company, Inc.
| EL18-63-000 | AEP Oklahoma Transmission Company, Inc.; AEP Southwestern Transmission Company, Inc.
| ER18-1541-000 | Southwest Power Pool, Inc.
| EL18-65-000; ER18-1583-000 | Black Hills Power, Inc.
| EL18-70-000 | Transource West Virginia, LLC.
| ER18-1544-000 (not consolidated) | PJM Interconnection, L.L.C.; Transource West Virginia, LLC.
E-6 | EL14-12-003 | Association of Businesses Advocating Tariff Equity; Coalition of MISO Transmission Customers; Illinois Industrial Energy Consumers; Indiana Industrial Energy Consumers, Inc.; Minnesota Large Industrial Group; Wisconsin Industrial Energy Group v. Midcontinent Independent System Operator, Inc.; ALLETE, Inc.; Ameren Illinois Company; Ameren Missouri; Ameren Transmission Company of Illinois; American Transmission Company LLC; Cleco Power LLC; Duke Energy Business Services, LLC; Entergy Arkansas, Inc.; Entergy Gulf States Louisiana, LLC; Entergy Louisiana, LLC; Entergy Mississippi, Inc.; Entergy New Orleans, Inc.; Entergy Texas, Inc.; Indianapolis Power & Light Company; International Transmission Company; ITC Midwest LLC; Michigan Electric Transmission Company, LLC; MidAmerican Energy Company; Montana-Dakota Utilities Co.; Northern Indiana Public Service Company; Northern States Power Company—Minnesota; Northern States Power Company—Wisconsin; Otter Tail Power Company; Southern Indiana Gas & Electric Company.
| EL15-45-000 | Arkansas Electric Cooperative Corporation; Mississippi Delta Energy Agency; Clarksdale Public Utilities Commission; Public Service Commission of Yazoo City; Hoosier Energy Rural Electric Cooperative, Inc. v. ALLETE, Inc.; Ameren Illinois Company; Ameren Missouri; Ameren Transmission Company of Illinois; American Transmission Company LLC; Cleco Power LLC; Duke Energy Business Services, LLC; Entergy Arkansas, Inc.; Entergy Gulf States Louisiana, LLC; Entergy Louisiana, LLC; Entergy Mississippi, Inc.; Entergy New Orleans, Inc.; Entergy Texas, Inc.; Indianapolis Power & Light Company; International Transmission Company; ITC Midwest LLC; Michigan Electric Transmission Company, LLC; MidAmerican Energy Company; Montana—Dakota Utilities Co.; Northern Indiana Public Service Company; Northern States Power Company—Minnesota; Northern States Power Company—Wisconsin; Otter Tail Power Company; Southern Indiana Gas & Electric Company.
E-7 | EL18-71-000; EL18-71-001 | UNS Electric, Inc.
E-8 | EL18-72-000 | Alcoa Power Generating Inc.—Long Sault Division.
| EL18-73-000 | Alcoa Power Generating Inc.—Tapoco Division.
| ER18-1600-000; ER18-1601-000 | Alcoa Power Generating Inc.
| EL18-76-000; ER18-1580-000 | Black Hills/Colorado Electric Utility Company, LP.
| EL18-90-000; ER18-1602-000 | Cube Yadkin Transmission LLC.
| EL18-97-000 | Essential Power Rock Springs, LLC.
| ER18-1566-000 | PJM Interconnection, L.L.C.; Essential Power Rock Springs, LLC.
| EL18-101-000 | Monongahela Power Company; Potomac Edison Company; West Penn Power Company.
| ER18-1595-000 | PJM Interconnection, L.L.C.; Monongahela Power Company; Potomac Edison Company; West Penn Power Company.
| EL18-102-000 | Nevada Power Company; Sierra Pacific Power Company.
| ER18-1603-000 | Nevada Power Company.
| EL18-103-000 | New York State Electric & Gas Corporation.
| EL18-110-000 | Rochester Gas and Electric Corporation.
| ER18-1588-000 | New York Independent System Operator, Inc.; New York State Electric & Gas Corporation; Rochester Gas and Electric Corporation.
| EL18-105-000; ER18-1599-000; ER18-1599-001 | Ohio Valley Electric Corporation.
| EL18-117-000 | The Dayton Power & Light Company.
| ER18-1547-000 (not consolidated) | PJM Interconnection, L.L.C.; The Dayton Power & Light Company.
E-9 | EL18-67-000 | San Diego Gas & Electric Company.
E-10 | EL18-68-000 | Transource Maryland, LLC.
| EL18-69-000 (not consolidated) | Transource Pennsylvania, LLC.
E-11 | EL18-75-000 | Avista Corporation.
E-12 | ER18-1596-000; EL18-112-000 | Sky River LLC.
E-13 | EL18-93-000 | Deseret Generation and Transmission; Co-operative, Inc.
| EL18-113-000 (not consolidated) | Smoky Mountain Transmission LLC.
E-14 | EL18-79-000 | Cheyenne Light, Fuel and Power Company.
E-15 | EL18-91-000 | DATC Path 15, LLC.
E-16 | EL18-66-000 | Citizens Sunrise Transmission LLC.
E-17 | EL18-108-000 | Pacific Gas and Electric Company.
E-18 | EL18-111-000 | Rockland Electric Company.
| ER18-1585-000 | PJM Interconnection, L.L.C.; Rockland Electric Company.
E-19 | EL18-104-000 | NorthWestern Corporation.
E-20 | EL17-41-001 | Arkansas Public Service Commission and Mississippi Public Service Commission v. System Energy Resources, Inc.
| EL18-142-000 (Consolidated) | Louisiana Public Service Commission v. System Energy Resources, Inc. and Entergy Services, Inc.
| EL17-76-001 | East Texas Electric Cooperative, Inc. v. Public Service Company of Oklahoma; Southwestern Electric Power Company; AEP Oklahoma Transmission Company; and AEP Southwestern Transmission Company.
| EL18-58-000 | Oklahoma Municipal Power Authority v. Oklahoma Gas and Electric Company.
| ER18-1225-000 | Southwestern Electric Power Company.
| EL18-122-000 (Consolidated) | Minden, Louisiana v. Southwestern Electric Power Company.
| EL18-147-000 | Alabama Municipal Electric Authority and Cooperative Energy v. Alabama Power Company; Georgia Power Company; Gulf Power Company; Mississippi Power Company; and Southern Company Services, Inc.
E-21 | EL18-119-000 | Tucson Electric Power Company.
E-22 | EL18-64-000 | Baltimore Gas and Electric Company.
E-23 | EL18-115-000 | Startrans IO, L.L.C.
E-24 | EL18-118-000 | Trans Bay Cable LLC.
E-25 | EL18-183-000 | Radford's Run Wind Farm, LLC v. PJM Interconnection, L.L.C.
E-26 | AC18-59-000 | Edison Electric Institute.
E-27 | ER18-2273-000 | Midcontinent Independent System Opeator, Inc.
E-28 | ER18-1788-000 | MATL LLP.
E-29 | EL18-89-000 | Consolidated Edison Company of New York, Inc.
E-30 | EL18-95-000 | El Paso Electric Company.
E-31 | EL18-98-000 | Florida Power & Light Company.
E-32 | EL18-107-000 | Orange & Rockland Utilities, Inc.
E-33 | EL18-109-000 | Portland General Electric Company.
Gas
G-1 | RM96-1-041 | Standards for Business Practices of Interstate Natural Gas Pipelines.
G-2 | RP19-65-000; RP19-66-000 | Millennium Pipeline Company, L.L.C.
G-3 | OMITTED
G-4 | RP19-71-000; RP19-72-000 | North Baja Pipeline, LLC.
G-5 | RP19-60-000; RP19-61-000 | Vector Pipeline L.P.
G-6 | RP19-55-000; RP19-76-000 | Kern River Gas Transmission Company.
G-7 | RP18-1219-000 | Northern Natural Gas Company.
Hydro
H-1 | P-2035-104 | City and County of Denver, Colorado.
Certificates
C-1 | CP18-26-000 | Texas Eastern Transmission, LP.

Issued: November 8, 2018.
Nathaniel J. Davis, Sr.,
Deputy Secretary.

[FR Doc. 2018-24920 Filed 11-9-18; 11:15 am]

BILLING CODE 6717-01-P